DEPARTMENT OF THE TREASURY

Fiscal Service

Financial Management Service

Senior Executive Service; Financial Management Service Performance Review Board

AGENCY: Financial Management Service, Fiscal Service, Treasury.

ACTION: Notice.

SUMMARY: Pursuant to 5 U.S.C. 4314(c)(4), notice was provided of the appointment of members to the Financial Management Service Performance Review Board in the Federal Register on October 5, 2005, 70 FR 58256. This notice announces the replacement of one of the members.

FOR FURTHER INFORMATION CONTACT: Kenneth R. Papaj, Deputy Commissioner, Financial Management Service, 401 14th Street, SW., Washington, DC 20227; telephone (202) 874-7000.

SUPPLEMENTARY INFORMATION: Charles R. Simpson is replacing Nancy Fleetwood as one of the members of the Financial Management Service Performance Review Board. This Board reviews the performance appraisals of career senior executives below the Assistant Commissioner level and makes recommendations regarding ratings, bonuses, and other personnel actions.

Dated: December 20, 2005.
Kenneth R. Papaj,
Deputy Commissioner.

[FR Doc. 05-24457 Filed 12-23-05; 8:45 am]

BILLING CODE 4810-35-M